Proclamation 10934 of May 7, 2025

Victory Day for World War II, 2025

By the President of the United States of America

A Proclamation

Today, our Nation proudly commemorates the 80th anniversary of the Allied Powers' triumph over national socialism and fascism, and the end of World War II in Europe—one of the most epic victories for forces of freedom in the history of the world. On this Victory Day for World War II, we celebrate the unmatched might, strength, and power of the American Armed Forces, and we commit to protecting our sacred birthright of liberty against all threats, foreign and domestic.

In the wake of the December 7, 1941 attack on Pearl Harbor, the United States righteously entered the fray of what would become the apex of the eternal battle between good and evil. After nearly 4 years of the darkest and bloodiest chapters ever recorded in human history, more than 250,000 Americans lost their lives in the fight against the Nazi regime. Today and every day, we pay tribute to all those who made the ultimate sacrifice for their Nation, their liberty, and the survival of Western civilization. Without the sacrifice of our American soldiers, this war would not have been won, and our world today would look drastically different.

May 8, 1945 marks the Allies' acceptance of Germany's unconditional surrender—the beginning of the end of years of long, gruesome, and brutal warfare. The millions of souls senselessly lost serve as a reminder of why we must pursue peace through strength. I remain steadfastly devoted to stopping the years of endless foreign wars and preventing the further loss of lives. As I stated during my Inaugural Address, we will measure our success not only by the battles we win but also by the wars we end—and my proudest legacy will be that of a peacemaker.

As we commemorate Victory Day for World War II, we offer our unending thanks to every patriot from the Greatest Generation who left behind his home and family to fight for our freedom in distant lands. We honor the memories of all those who perished. Above all, we renew our commitment to keeping America and the entire world safe, secure, prosperous, and free.

NOW, THEREFORE, I, DONALD J. TRUMP, President of the United States of America, by virtue of the authority vested in me by the Constitution and the laws of the United States, do hereby proclaim May 8, 2025, as a day in celebration of Victory Day for World War II.

IN WITNESS WHEREOF, I have hereunto set my hand this seventh day of May, in the year of our Lord two thousand twenty-five, and of the Independence of the United States of America the two hundred and forty-ninth.

[FR Doc. 2025-08488

Filed 5-9-25; 11:15 am]

Billing code 3395-F4-P